DEPARTMENT OF ENERGY

Federal Energy Regulatory Commission

[Docket No. ER01-3093-000]

San Diego Gas & Electric Company; Notice of Filing

September 25, 2001.

Take notice that on September 24, 2001, San Diego Gas & Electric Company (SDG&E) tendered for filing with the Federal Energy Regulatory Commission (Commission), its Service Agreements numbers 9 and 10 to its FERC Electric Tariff, First Revised Volume No. 6, two interconnection agreements. Both agreements relate to the interconnection of a new generation plant to be owned by CalPeak Power—Border, LLC (CalPeak Enterprise). The plant, with a capacity of 49 MW, is being constructed on an expedited basis to meet potential shortfalls in the Western states' electric supplies. It will be located near the City of Escondido in San Diego County, California, and is expected to begin service on or about September 24, 2001.

Service Agreement No. 9 is an Expedited Interconnection Facilities Agreement dated September 21, 2001 between SDG&E and CalPeak Enterprise, under which SDG&E will construct, operate and maintain the proposed interconnection facilities. Service Agreement No. 10, the Interconnection Agreement between SDG&E and CalPeak Enterprise dated September 21, 2001, establishes interconnection and operating responsibilities and associated communications procedures between the parties. SDG&E requests an effective date of September 21, 2001 for both agreements.

SDG&E states that copies of the amended filing have been served on CalPeak Enterprise and on the California Public Utilities Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 15, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.
Acting Secretary.

[FR Doc. 01-24545 Filed 10-1-01; 8:45 am]

BILLING CODE 6717-01-P